DEPARTMENT OF HEALTH AND HUMAN SERVICES

Administration for Children and Families

Proposed Information Collection Activity; Comment Request

Proposed Projects

Title: Sanction Policies Task Order.

OMB No.: New Collection.

Description: This study is designed to determine how local welfare offices implement sanction policies in the Temporary Assistance for Needy Families program. This study will survey local welfare staff to gather in-depth qualitative information on how workers interpret the policies and apply them in specific instances. The results of this study should give the Administration for Children and Families (ACF) a better understanding of possible outcomes of various sanction policies, which in turn will help ACF design a research program to study the effect of sanctions.

Respondents: A maximum of 324 welfare staff in local welfare offices.

Annual Burden Estimates
Instrument | Number of respondents | Number of responses per respondent | Average burden hours per response | Total burden hours
In-person Survey and Telephone Interviews | 324 | 1 | .85 | 275

Estimated Total Annual Burden Hours: 275.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 12, 2005.
Robert Sargis,
Reports Clearance Officer.

[FR Doc. 05-24174 Filed 12-16-05; 8:45 am]

BILLING CODE 4184-01-M